DEPARTMENT OF THE TREASURY

Office of the Comptroller of the Currency

Agency Information Collection Activities: Submission for OMB Review; Comment Request

AGENCY: Office of the Comptroller of the Currency (OCC), Treasury.

ACTION: Notice and request for comment.

SUMMARY: The OCC, as part of its continuing effort to reduce paperwork and respondent burden, invites the general public and other Federal agencies to take this opportunity to comment on a new information collection, as required by the Paperwork Reduction Act of 1995. An agency may not conduct or sponsor, and a respondent is not required to respond to, an information collection unless it displays a currently valid Office of Management and Budget (OMB) control number. The OCC is soliciting comment concerning a new information collection titled, “Basel Comprehensive Quantitative Impact Study.” The OCC has also given notice that it has sent this collection to OMB for review.

DATES: You should submit comments by May 12, 2010.

ADDRESSES: Communications Division, Office of the Comptroller of the Currency, Mailstop 2-3, Attention: 1557-NEW, 250 E Street, SW., Washington, DC 20219. In addition, comments may be sent by fax to (202) 874-5274 or by electronic mail to regs.comments@occ.treas.gov. You may personally inspect and photocopy the comments at the OCC, 250 E Street, SW., Washington, DC 20219. For security reasons, the OCC requires that visitors make an appointment to inspect comments. You may do so by calling (202) 874-4700. Upon arrival, visitors will be required to present valid government-issued photo identification and to submit to security screening in order to inspect and photocopy comments.

Additionally, please send a copy of your comments to: OCC Desk Officer, Attention: 1557-NEW, by mail to U.S. Office of Management and Budget, 725 17th Street, NW., #10235, Washington, DC 20503, or by fax to (202) 395-6974.

FOR FURTHER INFORMATION CONTACT: You can request additional information or a copy of the collection from Mary H. Gottlieb, OCC Clearance Officer, (202) 874-5090, Legislative and Regulatory Activities Division, Office of the Comptroller of the Currency, 250 E Street, SW., Washington, DC 20219.

SUPPLEMENTARY INFORMATION: The OCC is requesting approval of the following new information collection:

Title: Basel Comprehensive Quantitative Impact Study.

OMB Control No.: 1557-NEW.

Description: The International Convergence of Capital Measurement and Capital Standards: A Revised Framework, also known as the Basel II Capital Accord, sets out a general international capital framework for banking institutions. The Basel II Capital Accord was adopted under the auspices of the Basel Committee on Banking Supervision ¹ (Basel Committee), and was implemented into domestic regulations in the United States by the Federal banking agencies on December 7, 2007 (72 FR 69288). In an effort to refine the Basel II Capital Accord, the Basel Committee will conduct a quantitative impact study (QIS) to assess the impact of the proposed revisions that were published by the Basel Committee on December 17, 2009.² As part of this effort, the OCC, in coordination with the other Federal banking agencies, is proposing to collect data from national banks with respect to the following subjects:

¹ The Basel Committee on Banking Supervision is a committee of banking supervisory authorities, which was established by the central bank Governors of the Group of Ten countries in 1975. It consists of senior representatives of bank supervisory authorities and central banks from Argentina, Australia, Belgium, Brazil, Canada, China, France, Germany, Hong Kong SAR, India, Indonesia, Italy, Japan, Korea, Luxembourg, Mexico, the Netherlands, Russia, Saudi Arabia, Singapore, South Africa, Spain, Sweden, Switzerland, Turkey, the United Kingdom and the United States. It usually meets at the Bank for International Settlements (BIS) in Basel, Switzerland, where its permanent Secretariat is located.

² Basel Committee on Banking Supervision, Strengthening the resilience of the banking sector, consultative document, December 17, 2009.

■ Revisions to the Basel II market risk framework ³ and guidelines for computing capital for incremental risk in the trading book,⁴ including the incremental risk capital charge; the comprehensive risk measure for correlation trading portfolios; the new rules for securitization exposures in the trading book; and the revised capital charges for certain equity exposures subject to the standardized measurement method for market risk.

³ Basel Committee on Banking Supervision, Revisions to the Basel II market risk framework, July 2009.

⁴ Basel Committee on Banking Supervision, Guidelines for computing capital for incremental risk in the trading book, July 2009.

■ Enhancements to the Basel II framework ⁵ including the revised risk weights for re-securitizations held in the banking book.

⁵ Basel Committee on Banking Supervision, Enhancements to the Basel II framework, July 2009.

■ Enhancements to strengthen the resilience of the banking sector ⁶ including the proposed changes to the definition of capital; the proposed introduction of a leverage ratio; and the proposed changes to the treatment of counterparty credit risk.

⁶ See footnote 2.

■ Liquidity enhancements referring to the international framework for liquidity risk measurement, standards and monitoring.⁷

⁷ Basel Committee on Banking and Supervision, International Framework for liquidity risk measurement, standards and monitoring, consultative document, December 17, 2009.

■ Operational risk and countercyclical tools.

The OCC intends to collect data for the QIS from banks subject to the Basel II Capital Framework ⁸ and those subject to the current risk-based capital guidelines (Basel I).⁹ Unless otherwise noted, all data would be reported on a consolidated basis. Ideally, banks should include all their assets in this information collection. However, due to data limitations, inclusion of some assets (for example, the portfolio of a minor subsidiary) may not be feasible. Exclusion of such assets is acceptable, as long as the remaining assets are representative of the bank as a whole.

⁸ See 12 CFR part 3, Appendix C.

⁹ See 12 CFR part 3, Appendix A.

Type of Review: New collection.

Affected Public: Businesses or other for-profit.

Estimated Number of Respondents: 20.

Estimated Number of Responses: 20.

Estimated Average Burden Hours per Response: 234 hours.

Estimated Total Annual Burden: 4,680 hours.

Comments on this information collection were solicited for 60 days.¹⁰ No comments were received. Comments continue to be invited on:

(a) Whether the collection of information is necessary for the proper performance of the functions of the OCC, including whether the information has practical utility;

(b) The accuracy of the OCC's estimate of the information collection burden;

(c) Ways to enhance the quality, utility, and clarity of the information to be collected;

(d) Ways to minimize the burden of the collection on respondents, including through the use of automated collection techniques or other forms of information technology; and

¹⁰ 75 FR 3966 (Jan. 25, 2010).

(e) Estimates of capital or start-up costs and costs of operation, maintenance, and purchase of services to provide information.

Dated: April 6, 2010.
Michele Meyer,
Assistant Director, Legislative and Regulatory Activities Division, Office of the Comptroller of the Currency.

[FR Doc. 2010-8187 Filed 4-9-10; 8:45 am]

BILLING CODE 4810-33-P